AGENCY FOR INTERNATIONAL DEVELOPMENT

48 CFR Parts 727, 742, and 752

RIN 0412-AA90

USAID Acquisition Regulation: Planning, Collection, and Submission of Digital Information; Submission of Activity Monitoring, Evaluation, and Learning Plan to USAID; Correction

AGENCY: U.S. Agency for International Development.

ACTION: Final rule; correction.

SUMMARY: On May 6, 2024, the United States Agency for International Development (USAID) published a final rule amending USAID's Acquisition Regulation (AIDAR) that implements USAID requirements for managing digital information as a strategic asset to inform the planning, design, implementation, monitoring, and evaluation of the Agency's foreign assistance programs. The rule contained two errors which this document is correcting.

DATES: Effective June 5, 2024.

FOR FURTHER INFORMATION CONTACT: Kelly Miskowski, USAID M/OAA/P, at 202-256-7378 or policymailbox@usaid.gov for clarification of content or information pertaining to status or publication schedules. All communications regarding this rule must cite AIDAR RIN No. 0412-AA90.

SUPPLEMENTARY INFORMATION:

Correction

In FR Doc. 2024-09373, appearing on page 37948 in the Federal Register of Monday, May 6, 2024, the following corrections are made:

1. In the preamble on page 37948, in the first column, in SUMMARY, in the first sentence, add the word “is” after “(USAID)”.

727.7003 [Corrected]

2. On page 37961, in the first column, in § 727.7003, in paragraph (a), in the first sentence, remove the words “to USAID”.

Jami J. Rodgers,
Chief Acquisition Officer.

[FR Doc. 2024-10189 Filed 5-9-24; 8:45 am]

BILLING CODE 6116-01-P